ENVIRONMENTAL PROTECTION AGENCY

[ER-FRL-9030-8])

Environmental Impact Statements; Notice of Availability

Responsible Agency: Office of Federal Activities, General Information (202) 564-7146 or http://www.epa.gov/nepa.

Weekly receipt of Environmental Impact Statements (EISs)

Filed 12/05/2016 Through 12/09/2016

Pursuant to 40 CFR 1506.9.

Notice: Section 309(a) of the Clean Air Act requires that EPA make public its comments on EISs issued by other Federal agencies. EPA's comment letters on EISs are available at: http://www.epa.gov/compliance/nepa/eisdata.html.

EIS No. 20160294, Draft, NMFS, LA, Reduce the Incidental Bycatch and Mortality of Sea Turtles in the Southeastern U.S. Shrimp Fisheries, Comment Period Ends: 01/30/2017, Contact: Michael Barnette 727-551-5794.

EIS No. 20160295, Draft Supplement, USACE, LA, Mississippi River Ship Channel, Gulf to Baton Rouge, Louisiana, Comment Period Ends: 01/30/2017, Contact: Steve Roberts 504-862-2517.

EIS No. 20160296, Final, USACE, AL, Update of the Water Control Manual for the Apalachicola-Chattahoochee-Flint River Basin in Alabama, Florida, and Georgia and a Water Supply Storage Assessment, Review Period Ends: 01/17/2017, Contact: Lewis Sumner 251-694-3857.

EIS No. 20160297, Draft, FTA, IN, West Lake Corridor Project, Comment Period Ends: 02/03/2017, Contact: Mark Assam 312-353-4070.

EIS No. 20160298, Draft, USFS, MT, Ten Lakes Travel Management Project, Comment Period Ends: 01/30/2017, Contact: Bryan Donner 406-296-2536.

EIS No. 20160299, Draft, BLM, AZ, Sonoran Desert National Monument Target Shooting Draft Resource Management Plan Amendment, Comment Period Ends: 03/16/2017, Contact: Darrel Wayne Monger 623-580-5683.

EIS No. 20160300, Final, BIA, CA, Wilton Rancheria Fee-to-Trust and Casino Project, Review Period Ends: 01/17/2017, Contact: John Rydzik 916-978-6051.

EIS No. 20160301, Draft, NOAA, AL, Deepwater Horizon Oil Spill Draft Restoration Plan I and EIS: Provide and Enhance Recreational Opportunities, Comment Period Ends: 01/30/2017, Contact: Dan Van Nostrand 251-544-5015.

EIS No. 20160302, Draft, NPS, MI, Address the Presence of Wolves, Isle Royale National Park, Comment Period Ends: 03/15/2017, Contact: Kelly Daigle 303-987-6897.

EIS No. 20160303, Draft Supplement, USFS, ID, Johnson Bar Fire Salvage Project, Comment Period Ends: 01/30/2017, Contact: Sara Daugherty 208-935-4263.

EIS No. 20160304, Final, NOAA, HI, Heeia National Estuarine Research Reserve, Review Period Ends: 01/17/2017, Contact: Jean Tanimoto 808-725-5253.

EIS No. 20160305, Final, USFWS, MA, Silvio O. Conte National Fish and Wildlife Refuge Final Comprehensive Conservation Plan, Review Period Ends: 01/17/2017, Contact: Nancy McGarigal 413-253-8562.

EIS No. 20160306, Final, NRC, WY, Reno Creek In Situ Recovery Project, Review Period Ends: 01/17/2017, Contact: Jill Caverly 301-415-7674.

EIS No. 20160307, Final Supplement, EPA, CT, Designation of Dredged Material Disposal Site(s) in Eastern Long Island Sound (ELIS), Review Period Ends: 01/04/2017, Contact: Jean Brochi 617-918-1536. Note: On 12/6/16, EPA published a notice in the Federal Register (81 FR 87820) for the Final Rule and Final Supplemental EIS.

EIS No. 20160308, Final, USFS, WY, Oil and Gas Leasing in Portions of the Wyoming Range in the Bridger-Teton National Forest, Review Period Ends: 01/17/2017, Contact: Donald Kranendonk 435-781-5245.

Dated: December 13, 2016.
Dawn Roberts.
Management Analyst, NEPA Compliance Division, Office of Federal Activities.

[FR Doc. 2016-30350 Filed 12-15-16; 8:45 am]

BILLING CODE 6560-50-P